DEPARTMENT OF HOMELAND SECURITY

Coast Guard

46 CFR Part 11

[Docket No. USCG-2020-0492]

RIN 1625-AC64

Towing Vessel Firefighting Training

AGENCY: Coast Guard, DHS.

ACTION: Notice of proposed rulemaking (NPRM).

SUMMARY: The Coast Guard is proposing to revise the training requirements for national Merchant Mariner Credential endorsements as master of towing vessels (limited) or mate (pilot) of towing vessels on inland waters or Western Rivers routes. The proposal would provide mariners seeking these endorsements the option to take a modified basic firefighting course that eliminates training on equipment that is not required to be carried on towing vessels operating on inland waters or Western Rivers. Applicants who take the modified basic firefighting course would reduce their costs due to the courses being shorter and less expensive than the longer basic firefighting courses.

DATES: Comments and related material must be received by the Coast Guard on or before November 1, 2021.

ADDRESSES: You may submit comments identified by docket number USCG-2020-0492 using the Federal Decision Making Portal at https://www.regulations.gov. See the “Public Participation and Request for Comments” portion of the SUPPLEMENTARY INFORMATION section for further instructions on submitting comments.

Collection of information. Submit comments on the collection of information discussed in section VI.D. of this preamble both to the Coast Guard's online docket and to the Office of Information and Regulatory Affairs (OIRA) in the White House Office of Management and Budget (OMB) using their website www.reginfo.gov/public/do/PRAMain. Comments sent to OIRA on the collection of information must reach OMB on or before the comment due date listed on their website.

FOR FURTHER INFORMATION CONTACT: For information about this document call or email Mr. James Cavo, Coast Guard; telephone 202-372-1205, email James.D.Cavo@uscg.mil.

SUPPLEMENTARY INFORMATION:

Table of Contents for Preamble

I. Public Participation and Request for Comments

II. Abbreviations

III. Basis and Purpose

IV. Background

V. Discussion of Proposed Rule

VI. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards

M. Environment

I. Public Participation and Request for Comments

The Coast Guard views public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision Making Portal at https://www.regulations.gov. To do so, go to https://www.regulations.gov, type USCG-2020-0492 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

Public meeting. We do not plan to hold a public meeting, but we will consider doing so if we determine from public comments that a meeting would be helpful. We would issue a separate Federal Register notice to announce the date, time, and location of such a meeting.

II. Abbreviations

BLS Bureau of Labor Statistics

CFR Code of Federal Regulations

DHS Department of Homeland Security

FR Federal Register

GT Gross tonnage

GRT Gross register tons

MERPAC Merchant Marine Personnel Advisory Committee

MMC Merchant Mariner Credential

MMLD Merchant Mariner Licensing and Documentation

NAICS North American Industry Classification System

NMC National Maritime Center

NPRM Notice of proposed rulemaking

NVIC Navigation and Vessel Inspection Circular

OMB Office of Management and Budget

OPM Office of Personnel Management

§ Section

SME Subject Matter Expert

STCW Convention International Convention on Standards of Training, Certification and Watchkeeping for Seafarers, 1978, as Amended

STCW Code Seafarer's Training, Certification and Watchkeeping Code, as Amended

TSAC Towing Safety Advisory Committee

U.S.C. United States Code

III. Basis and Purpose

The legal basis of this proposed rule is title 46 of the United States Code (U.S.C.) section 7101, which authorizes the Secretary of the Department of Homeland Security (DHS) to establish the experience and professional qualifications required for the issuance of merchant mariner credentials with officer endorsements. The DHS Secretary has delegated the rulemaking authority under 46 U.S.C. 7101 to the Coast Guard through DHS Delegation No. 0170.1(92)(e). Additionally, 14 U.S.C. 102(3) grants the Coast Guard broad authority to promulgate and enforce regulations for the promotion of safety of life and property on waters subject to the jurisdiction of the United States, which includes establishing the experience and professional qualifications required for the issuance of credentials.

The purpose of this proposed rule is to revise title 46 of the Code of Federal Regulations (CFR), § 11.201(h)(3) to provide mariners seeking a national officer endorsement as master of towing vessels (limited) ¹ or mate (pilot) ² of towing vessels on inland waters or Western Rivers routes the option to take a modified basic firefighting course instead of a basic firefighting course. The modified basic firefighting course eliminates training on equipment that is not required to be carried on towing vessels operating on inland waters or Western Rivers.³ This proposed change would apply to applicants for national Merchant Mariner Credential (MMC) endorsements as master of towing vessels (limited) and mate (pilot) of towing vessels. Mariners seeking an endorsement as master of towing vessels would have had to complete firefighting training when they obtained one of the endorsements that are a prerequisite to qualifying for master of towing vessels. Mariners who will not be working solely on Western Rivers or inland waters other than the Great Lakes would need to complete a basic firefighting course and not the modified basic firefighting course.

¹ An endorsement as a master of towing vessels (limited) authorizes service as a master (the person in command of the vessel) to work on a towing vessel in a limited local area within inland waters or Western Rivers (e.g., master of towing vessels (limited) restricted to the Lower Mississippi River mile marker 775.0 to mile marker 850.0).

² “Mate” means a qualified deck officer other than the master. On towing vessels on inland waters or Western Rivers, “pilot” also refers to a qualified deck officer other than the master. The terms “mate” and “pilot” refer to the same position on the vessel and usage varies based on company and regional preference.

³ Throughout this NPRM, the term modified basic firefighting course describes the basic firefighting course required by 46 CFR 11.201(h)(3) modified to eliminate training on equipment that is not required to be carried on towing vessels operating on inland waters or Western Rivers routes.

IV. Background

Coast Guard regulations in 46 CFR part 11, subpart B, contain the general merchant mariner credentialing requirements for national and International Convention on Standards of Training, Certification and Watchkeeping for Seafarers, 1978, as Amended (STCW Convention) officer endorsements. Currently, 46 CFR 11.201(h)(3)(ii) requires mariners seeking national officer endorsements as master or mate (pilot) of towing vessels on routes other than oceans ⁴ to complete a Coast Guard-approved firefighting course that meets the basic firefighting training requirements in Regulation VI/1 of the STCW Convention and Table A-VI/1-2 ⁵ of the Seafarer's Training, Certification and Watchkeeping Code, as Amended (STCW Code). This requirement was implemented by the Coast Guard through the December 24, 2013 final rule titled, “Implementation of the Amendments to the International Convention on Standards of Training, Certification and Watchkeeping for Seafarers, 1978, and Changes to National Endorsements.” (78 FR 77795). Prior to the 2013 final rule, there had not been a requirement to complete firefighting training to obtain a national endorsement for master or mate (pilot) of towing vessels in services other than oceans.⁶ The Coast Guard included this requirement in 2013 to improve overall safety by requiring basic firefighting training. Basic firefighting training ensures that mariners have the skills to contain small fires before they can spread, leading to injury, death, property damage, or becoming a larger marine hazard.

⁴ For the purposes of this NPRM, we refer to “routes other than oceans” as near-coastal, Great Lakes, inland waters, and Western Rivers.

⁵ Regulation VI/1 and Regulation VI/3 of the STCW Convention provides two levels of firefighting training, basic and advanced. The competence requirements for basic firefighting are contained in Table A-VI/1-2 of the STCW Code and the competence requirements for advanced firefighting are found in Table A-VI/3 of the STCW Code.

⁶ Completion of an approved basic and advanced firefighting course for towing vessel endorsements on ocean routes has been a requirement for several decades.

Federal Advisory Committee Recommendations

Following the implementation of the 2013 final rule, the Coast Guard received requests from industry to review the appropriateness of the basic firefighting training requirement for towing vessel endorsements. As a result, the Coast Guard tasked two Federal Advisory Committees, the Merchant Marine Personnel Advisory Committee (MERPAC) ⁷ and the Towing Safety Advisory Committee (TSAC) ⁸ with reviewing the basic firefighting training requirements while taking into consideration the equipment carried on towing vessels operating on inland waters and Western Rivers routes. Prior to the MERPAC meeting held in March of 2017, the Coast Guard invited public comment on the issues listed in the meeting agenda, including Task Statement 95, Recommendations Regarding Training Requirements for Officer Endorsements for Master or Mate (Pilot) of Towing Vessels, except Assistance Towing and Apprentice Mate (Steersman) of Towing Vessels, in Inland Service.⁹ In response, MERPAC received input from two mariners working on inland waters and Western Rivers towing vessels transporting tank barges, one as a mate (pilot) and the other as a master. Both mariners suggested that a lack of firefighting skills could directly contribute to the escalation of an emergency that could ultimately lead to injury or death of vessel crewmembers. Both mariners also suggested that mariners on inland waters and Western Rivers towing vessels need to complete approved firefighting training in order to be prepared to adequately respond to a fire on their vessel, and that time and money spent on training is an investment in safety. Each mariner also expressed that onboard training and drills were not conducted in a way that adequately prepares mariners to handle evolving emergency situations on board the vessels. They also stated that annual inspections were not adequate to ensure training and drills were being conducted as they only verify the paper records and do not verify the conduct of practical exercises in handling emergency situations.

⁷ See “Merchant Marine Personnel Advisory Committee (MERPAC) Task Statement #95, Inland Firefighting, Draft Report,” September 14, 2016. This report is available at: https://homeport.uscg.mil/Lists/Content/Attachments/709/Enclosure%207%20Task%20Statement%2095%20%20Inland%20Firefighting.pdf.

⁸ See “Towing Safety Advisory Committee, Task 16-02, Recommendations Regarding Firefighting Training Requirements for Officer Endorsements for Master, Mate (Pilot) of Towing Vessels, Except Assistance Towing and Apprentice Mate (Steersman) of Towing Vessels, Inland Service Final Report,” March 21, 2018. This report is available at: https://homeport.uscg.mil/Lists/Content/Attachments/799/TSAC%20Task%2016-02%20Inland%20Firefighting%20Final-03212018.pdf.

⁹ See MERPAC notice of Federal Advisory Committee meeting (82 FR 9575).

In their recommendations to the Coast Guard, both MERPAC and TSAC commented that the basic firefighting requirements in § 11.201(h)(3)(ii) are based on equipment found on deep-sea vessels and not on vessels operating on inland waters or Western Rivers. TSAC identified equipment covered in the basic firefighting training requirements, contained in Table A-VI/1-2 of the STCW Code that is not required to be carried on towing vessels operating on inland waters or Western Rivers.¹⁰ They noted that nowhere in 46 CFR subchapter M, “Towing Vessels,” part 142, “Fire Protection,” is there a requirement for towing vessels operating on inland waters or Western Rivers to be equipped with firefighters' outfits or self-contained breathing apparatus. Because the basic firefighting training in § 11.201(h)(3)(ii) requires mariners seeking national officer endorsements for master or mate (pilot) of towing vessels to become proficient with equipment that is not required to be carried onboard the vessels they intend to operate, MERPAC and TSAC both recommended that the content of firefighting training be modified for these mariners.

¹⁰ Id. at 8.

Public Input

In 2017, the Coast Guard sought comments on regulations, guidance documents, and interpretative documents that the public believed should be repealed, replaced, or modified.¹¹ The Coast Guard received public input from a trade association representing the towing industry regarding the regulations in § 11.201(h)(3)(ii), which requires basic firefighting training for endorsements as master or mate (pilot) of towing vessels. The trade association suggested that the training requirement is excessive, because the current towing vessel regulations in §§ 27.209 and 142.245, which require company provided firefighting instruction and drills, are adequate to address fires onboard towing vessels. The commenter recommended that the Coast Guard eliminate the basic firefighting training requirement in § 11.201(h)(3)(ii) for national officer endorsements as master or mate (pilot) of towing vessels on inland waters and Western Rivers. The commenter asserted that this would alleviate an unnecessary regulatory burden by not requiring mariners or their employers to pay for inappropriate firefighting training that does not address a demonstrated safety need.

¹¹ See Coast Guard Request for Information entitled, “Evaluation of Existing Coast Guard Regulations, Guidance Documents, Interpretative Documents, and Collections of Information” (82 FR 26632, June 8, 2017). This document is available at: https://www.regulations.gov/document?D=USCG-2017-0480-0001.

As noted in the letter from the trade association, current towing vessel regulations in §§ 27.209 and 142.245 require company provided firefighting instruction and drills that are adequate to address fires onboard towing vessels. However, input provided by mariners in response to the Coast Guard's request for public input on MERPAC Task Statement 95, as previously discussed, provides information on their experience with company provided onboard training and drills. These mariners expressed that training and drills were not conducted in a way that adequately prepares mariners to handle evolving emergency situations on board the vessels. They also stated that annual inspections were not adequate to ensure training and drills were being conducted, as they only verify the paper records and do not verify the conduct of practical exercises in handling emergency situations.

After receiving recommendations from MERPAC and TSAC and reviewing the public comments, the Coast Guard determined that the basic firefighting training for national officer endorsement as master or mate (pilot) of towing vessels on inland waters and Western Rivers should be retained. Basic firefighting training ensures that mariners have basic firefighting skills and leads to increased maritime safety by ensuring mariners will be able to contain a small fire before it spreads throughout the vessel and becomes a threat to life, or a hazard to the environment and public safety. However, we have determined these mariners should not have to train using equipment that is not required to be carried aboard the towing vessels on which they will serve.

With this proposed rule, applicants seeking national officer endorsements as master or mate (pilot) of towing vessels on inland waters or Western Rivers would have the option to take a modified basic firefighting course that excludes training on equipment that is not required to be carried on their vessels.

This proposed change would apply to applicants for national MMC endorsements as master of towing vessels (limited) and mate (pilot) of towing vessels on inland waters or Western Rivers routes. The modified basic firefighting training required by § 11.201(h)(3) would have to be approved by the Coast Guard, and training required for MMC endorsements would be approved in accordance with the requirements of §§ 10.402 and 10.403. This proposed change would provide an opportunity for course providers to develop a Coast Guard-approved modified basic firefighting course for applicants for national MMC endorsements as master of towing vessels (limited) and mate (pilot) of towing vessels on inland waters or Western Rivers routes.

This proposed rule would result in a one-time cost to course providers for developing and submitting requests for approval of a modified basic firefighting course, and a one-time cost to the Coast Guard for reviewing and approving these courses. Under existing § 10.402(d) and (f), there would be ongoing costs to both the course providers and the Coast Guard every 5 years for requests for renewal of the course approval.¹² Applicants who take modified basic firefighting courses would receive cost savings due to courses being shorter and less expensive than the longer basic firefighting courses.

¹² Approved courses are valid for 5 years from the date of Coast Guard approval. Before the course approval expires, the course provider must seek a course approval renewal if they want to continue to offer the course.

V. Discussion of Proposed Rule

Proposed Amendments to § 11.201(h)

The Coast Guard proposes to amend § 11.201(h), which requires mariners seeking national officer endorsements to present a certificate of completion from a Coast Guard-approved firefighting course of instruction.

The Coast Guard proposes to amend paragraph (h)(1) by adding language stating that the firefighting certificate of completion must be “relevant to the endorsement being sought.” The Coast Guard proposes this change to ensure that mariners would be required to provide evidence of completing the appropriate firefighting training for the endorsement they are applying for.

We also propose to make several changes to paragraph (h)(3), which contains a list of national officer endorsements that require completion of basic firefighting training in accordance with Regulation VI/1 of the STCW Convention and Table A-VI/1-2 of the STCW Code. Currently, paragraph (h)(3)(ii) requires that “all officer endorsements for master or mate (pilot) of towing vessels, except apprentice mate (steersman) of towing vessels, in all services except oceans” must meet this requirement. We propose to revise paragraph (h)(3)(ii) to specify the requirements for officer endorsements for master or mate (pilot) of towing vessels, except apprentice mate (steersman) of towing vessels, for service on near-coastal waters. We are also proposing to add paragraphs (h)(3)(iii) and (h)(3)(iv) to list the specific waters covered by the phrase, “in all services except oceans.” Proposed paragraph (h)(3)(iii) would specify the requirements for officer endorsements for master or mate (pilot) of towing vessels, except apprentice mate (steersman) of towing vessels, for service on the Great Lakes. Proposed paragraph (h)(3)(iv) would specify the requirements for officer endorsements for master or mate (pilot) of towing vessels, except apprentice mate (steersman) of towing vessels, for service on inland waters or Western Rivers.

Mariners seeking a national officer endorsement as master or mate (pilot) of towing vessels authorized for service on near-coastal waters or on the Great Lakes would still need to complete the basic firefighting training referenced in paragraph (h)(3). A modified basic firefighting course is not appropriate for mariners operating on towing vessels on near-coastal waters or on the Great Lakes for two reasons: (1) Near-coastal waters and Great Lakes towing vessels may carry the equipment omitted from a modified towing vessel firefighting course, and (2) near-coastal waters and Great Lakes towing vessels operate farther from the shore, where firefighting assistance is not readily available as it is on inland waters or Western Rivers.

Proposed paragraph (h)(3)(iv)(A) would provide a mariner the option of completing a modified basic firefighting course for a national officer endorsement as master or mate (pilot) of towing vessels on inland waters or Western Rivers. The course would be a Coast Guard-approved modified basic firefighting course that would not include training on equipment that is not required to be carried aboard towing vessels for service on inland waters or Western Rivers. When approving modified courses, the Coast Guard intends to consider the requirements of 46 CFR subchapter M, parts 140 and 142, in determining the training to achieve proficiency in firefighting consistent with the equipment available onboard towing vessels on inland waters or Western Rivers. The Coast Guard anticipates this modified basic firefighting course would have a total of about 12 hours of classroom and practical training instead of a total of 16 hours for the basic firefighting course. The Coast Guard is interested in public input regarding whether 12 hours of classroom and practical training is adequate for the course and what subject matters could be omitted from the basic firefighting course.

Currently, national officer endorsements for towing vessels serving on the Great Lakes and inland waters are issued as one route. In proposed paragraph (h)(3)(iv)(A), language would be added to allow separation of these routes so that a mariner who completes a modified basic firefighting course could be issued an endorsement restricted to inland waters or Western Rivers.

The Coast Guard proposes paragraph (h)(3)(iv)(B) to specify that a mariner who qualifies for an endorsement by completing a modified basic firefighting course would be required to complete the basic firefighting course required in paragraph (h)(3) for an increase in scope ¹³ of the endorsement to add a Great Lakes or near-coastal waters route. For an increase in scope to add oceans routes, a mariner would need to complete both the basic firefighting course required in paragraph (h)(3) and the advanced firefighting course required in paragraph (h)(2).

¹³ Increase in scope means additional authority added to an existing credential, such as adding a new route or increasing the authorized horsepower or tonnage. (46 CFR 10.107).

Other Proposed Changes

The proposed rule would revise the authority citation in 46 CFR part 11 by deleting a reference to “46 U.S.C. 503” and inserting a reference to “46 U.S.C. 102(3),” which grants the Coast Guard broad authority to promulgate and enforce regulations for the promotion of safety of life and property on waters subject to the jurisdiction of the United States, including establishing the experience and professional qualifications required for the issuance of credentials.

Lastly, we would revise § 11.201(l) to allow the Coast Guard to modify training in addition to the service or examination requirements for an endorsement. The proposed change is needed in order to allow for the option of the modified basic firefighting course for a national officer endorsement as master or mate (pilot) of towing vessels on inland waters or Western Rivers routes.

VI. Regulatory Analyses

We developed this proposed rule after considering numerous statutes and Executive orders related to rulemaking. A summary of our analyses based on these statutes or Executive orders follows.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, harmonizing rules, and promoting flexibility.

The Office of Management and Budget (OMB) has not designated this proposed rule a significant regulatory action under section 3(f) of Executive Order 12866. Accordingly, OMB has not reviewed it. A summary of the proposed rule's impacts are presented below and a more detailed discussion on the estimated cost savings of this rule follows.

As discussed earlier in the preamble, this proposed rule would provide applicants for an MMC endorsement as master of towing vessels (limited) or mate (pilot) of towing vessels on inland waters or Western Rivers routes the option to take a modified basic firefighting course instead of the basic firefighting course. Specifically, this firefighting course would eliminate training on firefighting equipment that is not required to be carried on towing vessels operating on inland waters or Western Rivers routes. Because the modified firefighting course is expected to be shorter in duration and lower in cost than a basic firefighting course, we anticipate eligible mariners will take the modified course. The Coast Guard requests comments on this assumption.

We estimate that this proposed rule would result in a 10-year net cost savings of $835,225, or $118,917 annualized, in 2020 dollars, discounted at 7 percent. The annual cost savings for mariners is approximately $123,598 (in undiscounted 2020 dollars) from the second year onward. The savings would stem from reduced hours spent in training and reduced tuition for firefighting training necessary for an endorsement as master or mate (pilot) of towing vessels on inland waters or Western Rivers routes.¹⁴

¹⁴ Operating on the Great Lakes is treated separately from operating on inland waters or Western Rivers. Routes on the Great Lakes would require the same firefighting training as near-coastal routes.

We estimate that this proposed rule would result in a one-time cost to course providers to develop a modified basic firefighting course and submit the course to the Coast Guard for approval. There would also be a one-time cost to the Government resulting from Coast Guard employees reviewing and approving these new courses. Under existing 46 CFR 10.402(d) and (f), there will be ongoing costs to both the course providers and the government every 5 years to renew the modified basic firefighting course. We anticipate course providers that offer the modified basic firefighting course to also continue to provide a basic firefighting course because these courses would serve additional markets. We request comment on whether course providers that plan to offer a modified basic firefighting course would continue to offer a basic firefighting course.

In the first year, we estimate the costs (in 2020 dollars) to industry would be $8,444 and the cost to the Government would be $15,988. These costs would not recur after the first year, but there would be ongoing costs for renewal of course approvals every 5 years resulting in costs to industry of $1,044 and costs to the Government of $14,029. The 10-year net cost savings would be $835,225, or $118,917 annualized, in 2020 dollars, discounted at 7 percent. We do not estimate that there would be any reduction in safety or benefits between the current basic firefighting training and a modified firefighting training, as the modified training would be better suited for the equipment common to the relevant towing vessels. Table 1 summarizes these results. In the following subsections, we describe the changes, the affected population, the potential costs, the potential cost savings, and the qualitative benefits in further detail.

Table 1—Summary of the NPRM
Category | Summary
Applicability | Update 46 CFR part 11 in order to permit a modified basic firefighting course for national endorsements as master and mate (pilot) of towing vessels on inland waters or Western Rivers routes.
Affected Population | An estimated 23 course providers and 381 applicants for master or mate (pilot) towing vessels would take a modified firefighting course in order to qualify for their endorsement. This is a one-time training requirement for mariners.
Costs to Industry ($, 7% discount rate) | One-time Costs: $8,444; Recurring Costs: $1,044 every 5 years.
Costs to the Government ($, 7% discount rate) | One-time Costs: $15,988; Recurring Costs: $14,029 every 5 years.
Cost Savings ($, 7% discount rate) | 10-year: $868,103. Annualized: $123,598.
Qualitative Benefits | Firefighting courses that are more tailored to the credential endorsement.

Description of Regulatory Changes

This proposed rule would result in two changes that would have potential costs and potential cost savings. First, course providers would have the opportunity to develop a modified firefighting course and submit the course to the Coast Guard for approval. Consequently, this proposed rule would initially result in costs to course providers for developing the course, and to the government for reviewing and approving the modified basic firefighting courses. Second, applicants would likely experience cost savings by taking shorter and less costly modified basic firefighting courses rather than the longer basic firefighting courses. The Coast Guard requests comments on all aspects of this analysis and in particular how much savings this proposed rule could generate for mariners.

Table 2 lists and describes the changes we propose to 46 CFR 11.201. The proposed changes contain costs and cost savings, as described above. Text that has been added is underlined, and text that has been deleted is stricken through.

Table 2—Summary of Proposed Changes to 46 CFR 11.201 and Proposed Impacts
Section | Proposed changes in regulatory text | Description of change | Impact
11.201(h)(1) | Applicants for an original officer endorsement in the following categories must present a certificate of completion from a firefighting course of instruction relevant to the endorsement being sought that has been approved by the Coast Guard. The firefighting course must have been completed within the past 5 years, or if it was completed more than 5 years before the date of application, the applicant must provide evidence of maintaining the standard of competence in accordance with the firefighting requirements for the credential sought | This editorial change would make it clear that the required firefighting training should be based on the operating route of the endorsement sought. | This editorial change would not have any substantive impact and therefore would not impose any costs or cost savings.
11.201(h)(2)(i) | All national officer endorsements as master or mate on seagoing vessels of 200 GRT or more | This editorial change would make the text easier to read and makes it consistent with other lines in this section. | This editorial change would not have any substantive impact and therefore would not impose any costs or cost savings.
11.201(h)(3)(i) | All officer endorsements as master on vessels of less than 500 GT in ocean service | This editorial change would make the text easier to read and make it consistent with other lines in this section. | This editorial change would not have any substantive impact and therefore would not impose any costs or cost savings.
11.201(h)(3)(ii) | All officer endorsements for master or mate (pilot) of towing vessels for service on near-coastal waters, except apprentice mate (steersman) of towing vessels | This editorial change would make it clear that applicants for master or mate (pilot) of towing vessel endorsements on near-coastal waters must take a basic firefighting course. | This editorial change would not have any substantive impact because these applicants were already required to take a basic firefighting course.
11.201(h)(3)(iii) | (iii) All officer endorsements for master or mate (pilot) of towing vessels for service on Great Lakes, except apprentice mate (steersman) of towing vessels | This editorial change would make it clear that applicants for master or mate (pilot) of towing vessel endorsements on Great Lakes must take a basic firefighting course. | This editorial change would not have any substantive impact because these applicants were already required to take a basic firefighting course.
11.201(h)(3)(iv) | (iv) All officer endorsements as master or mate (pilot) of towing vessels for service on inland waters or Western Rivers, except apprentice mate (steersman) of towing vessels | This editorial change would make it clear that applicants for master or mate (pilot) of towing vessel endorsements on inland waters or Western Rivers routes must take a basic firefighting course. | This editorial change would not have any substantive impact because these applicants were already required to take a basic firefighting course.
11.201(h)(3)(iv)(A) | (A) The Coast Guard will accept a Coast Guard approved modified basic firefighting course, which is the basic firefighting training described in paragraph (h)(3) of this section modified to only cover the equipment, fire prevention procedures, and firefighting operations required on towing vessels on inland waters or Western Rivers routes required in 46 CFR parts 140 and 142. A mariner who completes this modified course will be issued an endorsement that is restricted to inland waters or Western Rivers | These changes would permit master or mate (pilot) applicants operating exclusively on inland waters or Western Rivers routes, other than the Great Lakes, to take a modified basic inland waters and Western Rivers towing vessel firefighting course as opposed to basic firefighting course when they apply for endorsements on inland waters or Western Rivers. | This would lead to costs and costs savings. Costs result from course providers developing a modified firefighting course and submitting the course to the Coast Guard for approval, which would cost an estimated $8,444 to the industry and an estimated $15,988 to the government for review and approval of the course in the first year. Course providers would need to seek a renewal of their course approval in year 6, resulting in $1,044 in costs to course providers and $14,029 in costs to the Coast Guard. Estimated cost savings would come from applicants for towing vessel master or mate (pilot) endorsements spending fewer hours in training and less money on tuition, resulting in an estimated $123,598 in annual cost savings discounted at 7% in 2020 dollars.
11.201(h)(3)(iv)(B) | (B) To increase in scope to Great Lakes, near-coastal or oceans, the applicant will be required to complete the firefighting course appropriate to the route sought | This proposed change is a rewording of existing § 11.201(h)(4) to make the text of § 11.201(h) easier to read. | While this new clause is a restatement of the requirements currently existing in § 11.201(h)(4), there could be a cost impact because mariners could apply for an endorsement for inland waters or Western Rivers with a modified basic inland waters and Western Rivers towing vessel firefighting course approved under § 11.201(h)(3)(iv)(A), and later request an increase in scope requiring the mariner to complete an additional basic firefighting course. Because the mariner would need to take the basic firefighting course, they would spend approximately $553.38 on the tuition for the course. Additionally, they would spend 16 hours taking the course, and the travel time to get to and from the course. However, the Coast Guard cannot forecast who would seek an increase in scope or how frequently this would occur.
11.201(l) | (l) Restrictions. The Coast Guard may modify the service, training, and examination requirements in this part to satisfy the unique qualification requirements of an applicant or distinct group of mariners. The Coast Guard may also lower the age requirement for OUPV applicants. The authority granted by an officer endorsement will be restricted to reflect any modifications made under the authority of this paragraph | The addition of the word “training” in this paragraph would allow the Coast Guard to modify the training requirements based on the unique qualification requirements of a group of mariners, which we have not previously done. | Without the addition of the word “training”, the Coast Guard would not be able to modify training requirements for specific groups of mariners based on their unique qualifications and the cost savings proposed here would not be attainable. The addition also permits the Coast Guard, in the future, to modify training requirements for other specific groups of mariners. We do not intend to modify other training requirements at this time. As such, we do not estimate any costs or cost savings from this proposed change.

Affected Population

This proposed rule would have two affected populations: (1) Course providers who would offer a modified basic firefighting course; and (2) applicants for MMC endorsements as a master of towing vessels (limited) or mate (pilot) of towing vessels on inland waters or Western Rivers routes. We first estimated the number of course providers who may submit a modified basic firefighting course to the Coast Guard for approval, and then estimated the number of applicants who may apply for an endorsement as master of towing vessels (limited) or mate (pilot) of towing vessels operating on inland waters or Western Rivers.

The Coast Guard does not know how many course providers would request approval for a modified basic firefighting course. However, since this course would be a modified form of the basic firefighting course, we assume that only course providers who already teach a firefighting course would take advantage of the opportunity provided by this proposal. Currently, there are 91 course providers approved to offer a basic firefighting course.¹⁵ Historically, the number of course providers does not significantly change on an annual basis. Therefore, we expect that the course providers who would offer a modified firefighting course would be from these 91 course providers.

¹⁵ https://www.dco.uscg.mil/Portals/9/NMC/pdfs/courses/courses.pdf lists all courses approved by the Coast Guard. There are 91 course providers approved to offer basic firefighting courses.

A subject matter expert (SME) from the Coast Guard's Office of Merchant Mariner Credentialing with extensive experience involving regular contact with maritime course providers and towing vessel operating companies reviewed publicly available materials from these 91 providers and rated each on how likely they would be to request approval of a modified basic firefighting course. Our SME considered the types of courses offered by each provider, their facilities, geographic location(s), and the segment of the industry their clientele work in. The SME rated each course provider as either 0 percent, 25 percent, 50 percent, 75 percent, or 100 percent likely to request approval of a modified basic firefighting course. Across the 91 course providers with an approved basic firefighting course, we rated 56 of them as having no likelihood of requesting approval to offer a modified firefighting course because our SME's review indicated that they are unlikely to serve the inland towing population. Our SME estimates that 35 providers would request course approval of a modified firefighting course. Among these 35 providers, our SME estimates that the average likelihood to request approval to offer a modified basic firefighting course would be 65 percent. Multiplying 35 by 65 percent yields 23, rounded, or our estimate for the number of training providers likely to offer a modified firefighting course.

The Coast Guard requests comments on our estimate of 23 course providers who may request Coast Guard approval of a modified basic firefighting course or any additional data that we could use to inform and refine our estimate.

Applicants for a national officer endorsement as master of towing vessels (limited) or mate (pilot) of towing vessels on inland water or Western Rivers who take a modified course would realize a cost savings by taking a shorter, less expensive firefighting course. As discussed in section IV of this preamble, the Coast Guard issued a final rule in 2013 requiring mariners seeking national officer endorsements as master or mate (pilot) of towing vessels on routes other than oceans to complete a Coast Guard-approved basic firefighting course.¹⁶ Prior to the 2013 final rule, only masters and mates (pilots) of towing vessels serving on an ocean route were required to complete firefighting training.

¹⁶ See 78 FR 77796.

The 2013 final rule established grandfathering provisions for which the Coast Guard provided guidance in Navigation and Vessel Inspection Circular (NVIC) 03-16, titled “Guidelines for Credentialing Officers of Towing Vessels.” ¹⁷ As described in Enclosure 10 of NVIC 03-16, the Coast Guard grandfathered in mariners applying for an original MMC endorsed as master or mate (pilot) of towing vessels on non-oceans routes who began sea service prior to March 24, 2014 and submitted an application prior to March 24, 2019. The grandfathering provisions established that applicants for original master or mate (pilot) endorsements on non-oceans routes prior to March 24, 2019 were not required to take a firefighting course.¹⁸

¹⁷ Current Coast Guard NVICs can be found at: https://www.dco.uscg.mil/Our-Organization/NVIC/Year/2010/. The NVIC was updated in September 2020 and the discussion about grandfathering was removed because the grandfathering period has expired. The original NVIC was published June 23, 2016 and can be found here: https://beta.regulations.gov/document/USCG-2016-0611-0001.

¹⁸ Coast Guard SMEs estimate that nearly all master or mate (pilot) applicants would have begun sea service prior to March 24, 2014.

Mariners raising the grade of their MMC endorsement from mate (pilot) to master of towing vessels were also grandfathered in under NVIC 03-16, and were not required to take a firefighting course. As a result of the grandfathering provisions, this proposal would be applicable to new applicants for master of towing vessels (limited) or mate (pilot) of towing vessels endorsements who choose to take a modified basic firefighting course.

In order to qualify for an MMC endorsement as master of towing vessels, other than master of towing vessels (limited), an applicant must have prior sea service experience as either a mate (pilot) of towing vessels or a master of vessels greater than 200 gross register tons (GRT). In order to hold the endorsement authorizing service in either of these capacities would have required the applicant to either take a firefighting course or be grandfathered in under NVIC 03-16. As a result, this proposed rule does not impact applicants for an endorsement as master of towing vessels other than master of towing vessels (limited).

Masters of towing vessels (limited) do not require prior sea service as a master or mate of vessels greater than 200 GRT. Therefore, this proposed rule would affect applicants for endorsements of inland master of towing vessels (limited) if they do not have a prior endorsement as a mate (pilot) that required a firefighting course. Two towing vessel endorsement applicant groups are thus affected by this rule: (1) Mate (pilot) of towing vessels, and (2) master of towing vessels (limited) with no prior endorsement as a mate (pilot).

The Coast Guard's National Maritime Center (NMC) issues MMCs to applicants who meet the regulatory requirements for endorsements described in 46 CFR parts 11, 12, and 13. Applicants for endorsements as master and mate (pilot) of towing vessels may be endorsed to operate on oceans, near coastal, Great Lakes and inland waters, or Western Rivers routes. The Merchant Mariner Licensing and Documentation (MMLD) database is used by the NMC to issue MMCs and maintain records of U.S. merchant mariners. Data was obtained from the MMLD, for the period between 2015-2019, on each issuance of an original master or mate (pilot) of towing vessel endorsement, including when the endorsement was issued, and the authorized routes of operation.

We excluded applicants for Great Lakes, near-coastal, or oceans routes, because applicants for those endorsements on those routes are required to complete basic firefighting and would not be affected by the rule. Currently, Great Lakes and inland waters are issued as one route for towing vessel endorsements. With this proposed rule, language would be added to allow the separation of these two routes so that a mariner who completes the modified basic firefighting course could be issued an endorsement valid for inland waters or Western Rivers. Because towing vessel endorsements are currently issued for Great Lakes and inland routes, the Coast Guard cannot directly estimate from the MMLD data the number of masters and mate (pilots) of towing vessels operating exclusively on the inland waters. However, we can estimate the number of towing vessels that operate on these waters based on data from towing vessel inspection records.

As of October 2019, 1,265 towing vessels have been inspected, out of an estimated 5,770 46 CFR subchapter M vessels.¹⁹ When vessels are inspected, they must declare their operating route, which may include the Great Lakes, inland waters and Western Rivers.

¹⁹ Data from the Coast Guard's Marine Information for Safety and Law Enforcement database from October, 2019. 46 CFR subchapter M requires all towing vessels greater than 26 feet and those that transport hazardous materials to be inspected. The Coast Guard has not fully implemented the 46 CFR subchapter M requirements, which is why not all affected towing vessels have been inspected.

In order to isolate the vessels operating on the Great Lakes, we first reviewed the number of vessels that operate on the Great Lakes, inland waters or Western Rivers, and then examined the number of vessels that list the Great Lakes as at least one of their routes. Specifically, out of the 1,265 total towing vessels inspected under 46 CFR subchapter M, 900 are recorded as one or more of the following routes: Great Lakes, inland waters, or Western Rivers. Five percent, or 45 of the 900 vessels, include the Great Lakes as one of their listed routes and, therefore, would require basic firefighting training, since they may operate on the Great Lakes. The remaining 95 percent, or 855 vessels, do not include the Great Lakes as one of their listed routes and, therefore, we assume mariners serving on these vessels are eligible to take the modified basic firefighting course.²⁰

²⁰ 45 divided by 900 equals .05 or 5 percent of inspected towing vessels listing an inland waters, Western Rivers, or Great Lakes route operate on the Great Lakes.

Table 3 shows the number of endorsements issued from 2016-2020 for master of towing vessels (limited) and mate (pilot) of towing vessels, respectively, endorsed to operate on the Great Lakes, inland waters, or Western Rivers routes. While we report the number of endorsements issued in 2020 in the table below, we intentionally exclude 2020 when calculating the average number of master (limited) and mate (pilot) towing vessel endorsements each year because of the exceptional impact the COVID-19 pandemic on all facets of the U.S. economy. We therefore do not believe the number of endorsements issued in 2020 represents a typical year, and that many individuals that might ordinarily have pursued an endorsement did not because of the general slowdown in business associated with the pandemic. On average between 2016 and 2019, the Coast Guard has issued 13 master of towing vessels (limited) and 450 mate (pilot) of towing vessels endorsements per year, for a total of 463 new endorsements per year on Great Lakes, inland waters, and/or Western Rivers routes.

Table 3—Estimated Number of New Great Lakes, Western Rivers, and/or Inland Waters Mate (Pilot) and Masters (Limited) Endorsements Issued per Year *
Year | Mate (pilot) applicants | Masters (limited) with no mate (pilot) endorsement
2016 | 615 | 19
2017 | 512 | 17
2018 | 372 | 10
2019 | 300 | 6
2020 | 128 | 2
Average | 450 | 13
* Numbers may not add due to rounding, and 2020 numbers are not included in the average.

As seen in Table 3, the number of individuals applying for an endorsement as mate (pilot) of towing vessels has been declining. The Coast Guard does not know specifically why fewer individuals have applied for an endorsement as mate (pilot) of towing vessels. It may be associated with grandfathering provisions provided in the 2013 final rule, which established grandfathering provisions for master and mate (pilots) of towing vessels. The 2013 final rule may have caused applicants for master of towing vessels (limited) and mate (pilot) of towing vessels endorsements to seek an MMC earlier than they may have otherwise in order to be grandfathered under the existing regulations. Additionally, the introduction of 46 CFR subchapter M in 2016 may have led to a contraction in the industry. In either case, the Coast Guard believes carrying forward the current decline has been more severe than fundamentals would suggest, so we expect the number of applicants to level off. The Coast Guard therefore utilizes the four-year average of the number of new towing vessel mate applicants, 450, and the four-year average of the number of limited masters, 13, to estimate that 463 mariners that apply to the Coast Guard to be endorsed to operate on the Great Lakes, Western rivers, or inland waters each year. We request comment on this methodology and how many applicants might seek an inland towing mate or limited master endorsement in the coming years.

Applying the percentage of vessels that do not operate on the Great Lakes (95 percent) to the estimated 463 annual new endorsements yields an estimated 440 new endorsements as mate (pilot) of towing vessels or master of towing vessels (limited) operating in inland waters or Western Rivers per year, rounded.²¹

²¹ 463 multiplied by 0.95 equals 440, rounded.

Costs

The modified basic firefighting course for towing vessels on inland waters and Western Rivers would be a modified version of the basic firefighting course. Mariners are required to take a firefighting course, and this proposed rule would permit some mariners to take the modified basic firefighting course in lieu of the longer basic firefighting course. As such, this rule presents no additional costs to mariners who will continue to operate on inland waters and Western Rivers.

Before mariners could save hours spent in training and the tuition for a basic firefighting course by taking a modified basic firefighting course, course providers would first need to obtain Coast Guard approval for the modified basic firefighting course. Course providers submit course approval requests to the NMC in accordance with the requirements of 46 CFR part 10, subpart D. The NMC would then evaluate the course to ensure the content demonstrates comprehensive coverage of the firefighting knowledge and competency requirements of the training. If the course submission does not require edits or revisions, and is approved as submitted, the Coast Guard estimates that it would take a training specialist at a course provider 6 hours to develop and submit a request for course approval of a modified basic firefighting course.²² We used the Bureau of Labor Statistics' (BLS) Occupational Employment Statistics National-Industry-Specific Occupational Employment and Wage Estimates for May 2020 “Training and Development Specialists” category to estimate the wages for the employees who would prepare and submit the course for Coast Guard approval, as these employees “design and conduct training and development programs to improve individual and organization performance.” ²³ The BLS estimates a training and development specialist's mean hourly wages at $32.43. We then applied a load factor to account for non-wage compensation and benefits, resulting in a fully loaded hourly wage of $45.40.²⁴

²² Information provided by an SME from the Coast Guard's NMC. We request comment on how long it would take to develop and submit the course approvals, and what wages those who develop the course approval would be paid.

²³ https://www.bls.gov/oes/2020/may/oes131151.htm.

²⁴ Data on the employer cost of compensation was sourced from the “Employer Costs for Employee Compensation” one screen data search. We searched for both the total compensation and the wages and salaries of private industry workers in the “Educational Services Industry” yielding BLS series CMU2016100000000D for total compensation and series CMU2026100000000D for wages. To derive the cost of compensation per hour worked, the Coast Guard first took the average of the four quarters of total compensation or $47.34 and the average of the four quarters of wages and salaries of $33.92, rounded. We then divided the total compensation amount of $47.34 by the wage and salary amount of $33.92 to obtain the load factor of about 1.4 for “Educational Services” occupations, rounded (47.34 divided by 33.92 equals 1.4, rounded). To load the wage, the Coast Guard multiplied the estimated hourly wage of $32.43 by the loaded wage factor of 1.4 yielding $45.40, rounded, which accounts for the total cost of compensation per hour of work (32.43 multiplied by 1.4 equals 45.40).

If the submission does not require a request for additional information to supplement the course approval request, the Coast Guard estimates that a Federal government employee, at a grade level of a GS-7, would take 1 hour to process the receipt of the course approval submission. One Federal employee, at a grade level of a GS-13, would spend 4 hours evaluating the course approval request; another Federal employee, at a grade level of GS-13, would spend 0.5 hours reviewing the course; and a fourth Federal employee, also at a grade level of GS-13, would spend 0.5 hours conducting a final review of the course. In total, the Coast Guard would spend 1 hour of GS-7 time and 5 hours of GS-13 time per course approval request, if the submission does not require a request for additional information to supplement the course approval request.

The impacted employees work in the Washington-Baltimore-Arlington, DC-MD-VA-WV-PA area. The Office of Personnel Management (OPM) lists the hourly pay for Federal employees in the Washington, DC area according to the Washington, DC General Schedule (GS) pay tables.²⁵ We estimate that the impacted employees would, on average, be at a step 5 pay, because that is the midpoint of the pay band. OPM records the hourly pay of GS-7, step 5 employees as $26.43, and records the hourly pay of GS-13, step 5 employees as $55.75. These wages are not fully loaded, meaning they do not account for associated benefits.

²⁵ https://www.opm.gov/policy-data-oversight/pay-leave/salaries-wages/salary-tables/20Tables/html/DCB_h.aspx.

To account for the value of benefits to government employees, we first calculate the share of total compensation of Federal employees accounted for by wages. The Congressional Budget Office (2017) reports total compensation to Federal employees as $64.80 per hour and wages as $38.30.²⁶ This implies that total compensation is 1.69 times the average wages.²⁷ We can, therefore, calculate the fully loaded wage rate for the GS-7 and GS-13 hourly wage rates by multiplying by 1.69, yielding $44.67 and $94.22, respectively.

²⁶ Congressional Budget Office (2017), “Comparing the Compensation of Federal and Private-Sector Employees, 2011 to 2015,” https://www.cbo.gov/system/files/115th-congress-2017-2018/reports/52637-federalprivatepay.pdf.

²⁷ $64.80 divided by 38.30.

All 23 course providers that may offer a modified basic firefighting course must submit a course approval request to the Coast Guard for evaluation. We estimate the costs of this initial submission to industry and the Coast Guard in table 4.

Table 4—Costs Due to Initial Course Approval Applications
| Employee type | Fully loaded wage | Number of course providers | Hours | Total cost
|  | [A] | [B] | [C] | [A * B * C]
Industry Cost | Training Specialist | $45.4 | 23 | 6 | $6,265
Government Cost | GS-7 | 44.67 | 23 | 1 | 1,027
Government Cost | GS-13 | 94.22 | 23 | 5 | 10,835
Total Government Cost |  |  |  |  | 11,862
Total Cost |  |  |  |  | $18,127

It is common for course providers to submit insufficient supporting information with a course approval request to the Coast Guard. When this occurs, the Coast Guard will request additional information from the course provider. We reviewed new course approval submissions over 3 years (2018-2020) to determine how likely it is for a course provider to submit a course approval request without the Coast Guard requesting additional information. We report the total number of course approval applications received and the number of course approval applications that require additional information in table 5. We estimate that course providers include insufficient information in their application packet 37 percent of the time.

Table 5—Course Approval Requests Received With Insufficient Information
Year | Course approval requests received | Course approval requests received with insufficient information | Percent of course approval requests with insufficient information
2018 | 944 | 362 | 38
2019 | 768 | 335 | 44
2020 | 699 | 199 | 28
Total | 2,411 | 896 | 37

When course providers submit a course approval request with insufficient information, the Coast Guard would request that the course providers revise their course request and resubmit. The Coast Guard estimates that both the course provider and the Coast Guard would spend an equal number of hours on each resubmittal as they would on the initial submission. In other words, the course provider would spend 6 hours on an initial approval request and 6 hours on the resubmittal, for 12 hours total, and the Coast Guard would spend 1 GS-7 hour and 5 GS-13 hours on the initial request, and 1 GS-7 hour and 5 GS-13 hours on the resubmittal, for 2 GS-7 hours and 10 GS-13 hours total.²⁸ We request comment on how long it would take to develop and submit a course approval request and the wages that would be paid to those who develop the course materials and submit the approval request to the Coast Guard.

²⁸ Information provided by an SME from the Coast Guard's NMC.

Thus, the Coast Guard estimates that 37 percent of the course providers, or 8 course providers,²⁹ would submit the request for course approval with insufficient information, requiring a second submission taking 6 hours to prepare for submission to the Coast Guard. Similarly, the Federal government would spend an additional 1 hour at grade level GS-7 and 5 hours at grade level GS-13 to review the information resubmitted for the course approval request. We estimate the costs of modified firefighting course approvals resubmissions in Table 6.

²⁹ 23 * 37% = 8, rounded.

³⁰ Numbers may not add due to rounding.

Table 6—Summary of Resubmission Costs for Modified Firefighting Training Courses
| Employee type | Hourly burdened wage | Number of course providers | Average hours | Total cost ³⁰
|  | [A] | [B] | [C] | [A * B * C]
Industry Cost | Training Specialist | $45.40 | 8 | 6 | $2,179
Government Cost | GS-7 | 44.67 | 8 | 1 | 357
Government Cost | GS-13 | 94.22 | 8 | 5 | 3,769
Total Government Cost |  |  |  |  | 4,126
Total Cost |  |  |  |  | $6,305

We estimate the total costs to course providers from initial applications and any resubmissions to be approximately $8,444 ($6,265 + $2,179), and the total costs to government to be approximately $15,988 ($11,862 + $4,126). Together, we estimate the costs of evaluating approval requests, for the modified basic firefighting courses to be $8,444 + $15,988, or $24,432. This cost would occur during the first year of implementation.

As discussed above, course providers would need to seek a renewal every five years if they wish to continue to offer the course. This course renewal would include a submission similar to that initially provided to and approved by the Coast Guard. Since the Coast Guard would have previously reviewed and approved the course submission, the Coast Guard does not estimate that it would take course providers nearly as long to prepare all materials for the Coast Guard. Specifically, we estimate that the same training specialist who spent 6 hours on an initial course approval request would only spend 1 hour on a renewal request, and the renewal request would be submitted without any revisions.³¹ We further estimate that all 23 providers would submit a request for renewal of a course approval because we do not expect turnover in course providers based on a review of previous course approval renewals. The Coast Guard, however, would spend the same amount of time reviewing the renewal requests as it spent with the initial approval request to ensure that the course still meets regulatory requirements, or 1 hour of GS-7 time and 6 hours of GS-13 time.

³¹ According to SMEs from the Coast Guard's Office of Merchant Mariner Credentialing.

These costs would occur 5 years after each approval, or in year 6. We estimate the course renewal costs in Table 7. The 10-year distribution of undiscounted and discounted costs from both the initial and renewal requests are recorded in Table 8.

Table 7—Course Renewal Submission Cost
| Employee type | Burdened wage | Number of course providers | Hours | Total cost
|  | [A] | [B] | [C] | [A * B * C]
Industry Cost | Training Specialist | $45.40 | 23 | 1 | $1,044
Government Cost | GS-7 | 44.67 | 23 | 1 | $1,027
Government Cost | GS-13 | 94.22 | 23 | 6 | $13,002
Total Government Cost |  |  |  |  | $14,029
Total Cost |  |  |  |  | $15,073

Table 8—Discounted Costs over a 10-Year Period of Analysis in 2020 Dollars Discounted at 7% and 3%
Year | Undiscounted costs | Discounted costs: 7% | Discounted costs: 3%
1 | $24,432 | $22,834 | $23,721
2 | 0 | 0 | 0
3 | 0 | 0 | 0
4 | 0 | 0 | 0
5 | 0 | 0 | 0
6 | 15,073 | 10,044 | 12,623
7 | 0 | 0 | 0
8 | 0 | 0 | 0
9 | 0 | 0 | 0
10 | 0 | 0 | 0
Total | 39,505 | 32,878 | 36,344
Annualized |  | 4,681 | 4,261

Benefits

The primary benefits of the rule come from the cost savings to mariners in terms of reduced time spent in training and reduced tuition. The modified course content would eliminate the requirement for training using certain firefighting equipment that is not required to be carried on towing vessels operating on inland waters or Western Rivers. Acquiring and maintaining this equipment contributes to the cost of the basic firefighting course. Therefore, the modified basic firefighting course would be shorter, and likely less expensive, than the basic firefighting course. Thus, a mariner would likely prefer to take a modified basic firefighting course instead of a basic firefighting course. Some mariners may prefer to take the basic firefighting course if they are considering the possibility of working on the Great Lakes, near coastal waters, or ocean routes in the future. However, we do not have data to forecast how many of these mariners might opt, in the future, to take the longer basic firefighting course when they apply for the endorsement as master (limited) of towing vessels or mate (pilot) of towing vessels for inland waters or Western Rivers. Because the modified basic firefighting course will be shorter, less expensive, and located in the same area as the basic firefighting course, and because only a small portion of mariners operate in the Great Lakes (5 percent) and we already account for them, we assume all mariners eligible to take a modified basic firefighting course will do so. We request comment on our assessment that mariners would prefer a modified firefighting course is correct and if any mariners would prefer to take the longer basic firefighting course.

The basic firefighting training costs $553.38, on average, and lasts 16 hours.³² The Coast Guard estimates that the modified basic firefighting courses will be 4 hours shorter than the current 16-hour basic firefighting course. The modified basic firefighting course would likely be less expensive than the basic firefighting course, because it would require fewer resources to host, result in less wear and tear on the facility, and require fewer hours of an instructor's time.

³² Data on the price of firefighting training was only publicly available for 21 of the 91 approved course providers. Some of the course providers are private companies that train their own employees, some are in schools like the U.S. Naval Academy that teach basic firefighting to their own cadets but do not separate out the training, and others do not appear to offer basic firefighting training despite having an approval permitting them to teach it.

In the affected population section, we estimate that 440 individuals would apply for an MMC endorsement as a mate (pilot) of towing vessels or master of towing vessels (limited) on inland waters or Western Rivers each year, and would be eligible to take the modified basic firefighting course in lieu of the basic firefighting course. Therefore, these applicants would save 4 hours of their time and the difference in costs between the basic firefighting tuition and the modified basic firefighting course tuition.

The Coast Guard estimates that these 440 applicants would be mariners who hold an MMC endorsement as apprentice mate (steersman), which is a position between ordinary seaman and mate. The BLS does not have a labor category for apprentice mate (steersman); however, the BLS Occupational Employment Statistics National-Industry-Specific Occupational Employment and Wage Estimates for May 2020 lists the wages for both “Captains, Mates, and Pilots of Water Vessels” and “Sailors and Marine Oilers.” ³³ Because an apprentice mate (steersman) is a position between ordinary seaman and mates, we derive their wages by taking a weighted average wage of both “Captains, Mates, and Pilots of Water Vessels” and “Sailors and Marine Oilers” operating in the “Inland Water Transportation” industry. We take a weighted average because the duties and responsibilities of an apprentice mate (steersman) are more similar to that of sailors than they are to mates. Consequently, we rate the sailor's wage more heavily than we weight the mate's wage. Specifically, we estimate the wage of an apprentice mate (steersman) by taking one-third of the average mate's wage ($42.39) and two-thirds of the average sailor's wage ($24.01), yielding $30.14 per hour, rounded.³⁴ We then apply a load factor to account for non-wage compensation and benefits, which results in a fully loaded wage of $46.42.³⁵ Therefore, we estimate the annual undiscounted cost savings for taking shorter courses to be about $81,699 [(440 endorsements × 4 (the number of hours saved) × $46.42 (the burdened wage)].

³³ Master and mates rates were accessed on April 30, 2021 from: https://www.bls.gov/oes/2020/may/oes535021.htm#ind. Sailor and Oiler rates were accessed on April 30, 2021 from: https://www.bls.gov/oes/2020/may/oes535011.htm. For both rates the hourly mean wage for the “Inland Water Transportation” industry was used as this best approximates the wages of towing vessel masters, mates, and deckhands.

³⁴ [($42.39 divided by 3) plus ($24.01 multiplied by ⅔)] which equals $30.14.

³⁵ Data on the employer cost of compensation was sourced from the “Employer Costs for Employee Compensation” one screen data search. We searched for both the total compensation and the wages and salaries of private industry workers in the “Transportation and Warehousing Industry” yielding BLS series CMU2014300000000D for total compensation and series CMU2024300000000D for wages. To derive the cost of compensation per hour worked, the Coast Guard first took the average of the four quarters of total compensation or $40.84 and the average of the four quarters of wages and salaries of $26.56, rounded. We then divided the total compensation amount of $40.84 by the wage and salary amount of $26.56 to obtain the load factor of about 1.54 for “Transportation and Warehousing” occupations, rounded ($40.84 divided by $26.56 equals 1.54, rounded). To load the wage, the Coast Guard multiplied the estimated hourly wage of $30.14 by the loaded wage factor of 1.54 yielding $46.42, rounded, which accounts for the total cost of compensation per hour of work ($30.14 multiplied by 1.54 equals $46.42).

Applicants for MMC endorsements as mate (pilot) of towing vessels and master of towing vessel (limited) would also save the difference between the tuition for the less expensive, modified basic firefighting course and the basic firefighting course. If we use the tuition for the basic firefighting course, $553.38, as the cost of 16 hours of firefighting instruction, then 12 hours of instruction would be $415.04, rounded.³⁶ We request public comment on whether or not the tuition would decrease proportionally to the reduction in the number of hours of instruction. The cost savings for the modified basic firefighting course due to reduced tuition would be $138.34 or $60,870 total, rounded.³⁷ In total, applicants for mate (pilot) of towing vessels and master of towing vessels (limited) on inland waters or Western Rivers routes would save $142,569 per year—$81,699 from reduced hours spent in courses and $60,870 from reduced tuition fees.³⁸

³⁶ 553.38 multiplied by 12/16 equals 415.04.

³⁷ 553.38—415.04 = 138.34 and 138.34 × 440 = 60,870, rounded.

³⁸ We request public comments regarding the accuracy of this estimated reduction in course fees and if a different methodology would be more appropriate to estimate the reduction in course fees.

Because courses must be Coast Guard-approved before they can be offered to mariners, and developing a new course and obtaining approval from the Coast Guard can be a lengthy process, we assume that a modified firefighting course would not be available within the first year. We show the 10-year distribution of cost savings in table 9.

Table 9—Discounted Cost Savings Over a 10-Year Period of Analysis in 2020 Dollars at 7% and 3%
Year | Undiscounted cost savings | Discounted cost savings: 7% | Discounted cost savings: 3%
1 | $0 | $0 | $0
2 | 142,569 | 124,525 | 134,385
3 | 142,569 | 116,379 | 130,471
4 | 142,569 | 108,765 | 126,671
5 | 142,569 | 101,650 | 122,981
6 | 142,569 | 95,000 | 119,399
7 | 142,569 | 88,785 | 115,922
8 | 142,569 | 82,976 | 112,545
9 | 142,569 | 77,548 | 109,267
10 | 142,569 | 72,475 | 106,085
Total | 1,283,121 | 868,103 | 1,077,726
Annualized |  | 123,598 | 126,342

Unquantified Benefits of the Proposed Rule

We have no data to quantify any change in benefits, other than cost savings, that might result from providing an option to mariners to take a firefighting course more closely tailored to the type of equipment they would find on the vessels they serve on.

Analysis of Alternatives

In addition to our preferred alternative, discussed throughout the remainder of this regulatory analysis, we considered three additional alternatives:

(1) No action, or maintaining the requirement that masters and mate (pilots) of towing vessels be required to take a basic firefighting course. With this alternative, industry would not benefit from a shorter, modified basic firefighting course. Therefore, there would be no cost savings. We rejected the no-action alternative because it would not create cost savings for mariners seeking an endorsement for master or mate (pilot) of towing vessels on inland waters or Western Rivers.

(2) We also considered an alternative from a comment submitted during our request for feedback, discussed earlier in this NPRM. This commenter recommended that the Coast Guard eliminate the approved training requirement and rely instead on drills required by existing regulations to ensure mariner competence in firefighting. Proponents of this alternative are likely to argue that the absence of a training requirement could lead to cost savings from no longer traveling to, paying for or spending time in the training. However, the Coast Guard believes this alternative contains a number of serious drawbacks. First, as noted earlier in this NPRM, firefighting training ensures that mariners have basic firefighting skills that allow for the quick extinguishment of small fires that could otherwise spread and lead to property damage and personnel injury or death. Without the training, the Coast Guard cannot be sure that mariners would have the necessary skills to combat fires should they occur on vessels. Second, instructors in courses that are approved by the Coast Guard are required to have experience or training in effectively delivering course material. Third, the content of company managed training and drills would likely be much less intensive and exhaustive than what course providers will offer. Firefighting courses will include live fire exercises and practical experience identifying potential fire hazards and extinguishing live fires. As part of approved training, these types of activities take place in a controlled environment, allowing students to meet learning objectives while keeping them safe from the associated hazards. These practical exercises cannot be carried out on an operational vessel. While individuals no longer being required to take a firefighting course may view this as a benefit via cost savings, the Coast Guard views this as unacceptably decreasing the quality of firefighting skills and decreasing the safety of the inland waters and Western Rivers towing vessel fleet.

Taken together, these three features would lower the safety and preparedness of the inland waters and Western Rivers towing vessel fleet substantially. Therefore, the Coast Guard rejected this alternative.

(3) The third alternative we considered was permitting firefighting training specific to inland waters and Western Rivers towing vessels, but requiring the new training to have the same 16 hours of coursework and cover additional topics and situations common to inland waters and Western Rivers towing vessels not previously required by regulation. While the addition of topics for training could be beneficial, the Coast Guard has no data or feedback to support its impact on safety. Additionally, the Coast Guard believes course providers would have little incentive to undergo the expense of developing a firefighting course that would not provide cost savings to mariners.

Both courses would occur over 2 days. In the 16-hour course suggested by this alternative, the mariner would likely experience a cost savings from reduced tuition because there would be fewer equipment needs used for the training; however, we do not have a way to estimate the size of this reduction in fees. This reduction in fees would almost certainly be less than the reduction in fees for a 12-hour course instead of a 16-hour course, because the instructors would spend less time in class. Additionally, a 16-hour course would not result in the cost savings from the 4-hour reduced training duration, estimated at $92,381 annually. As a result, the Coast Guard rejected this alternative because it did not lead to the highest cost savings.

Net Cost Savings

As documented above, there would be costs to course providers and the Coast Guard, and cost savings to mariners who would have the option to complete a modified basic firefighting course. Table 10 presents the net cost savings to industry and the Government over a 10-year period of analysis, in 2019 dollars. Net cost savings are expressed as negative numbers in the first year due to the absence of cost savings.

Table 10—Discounted Net Cost Savings Over a 10-Year Period of Analysis in 2020 Dollars at 7% and 3%
Year | Undiscounted cost savings | Discounted cost savings: 7% | Discounted cost savings: 3%
1 | −$24,432 | −$22,834 | −$23,721
2 | 142,569 | 124,525 | 134,385
3 | 142,569 | 116,379 | 130,471
4 | 142,569 | 108,765 | 126,671
5 | 142,569 | 101,650 | 122,981
6 | 127,496 | 84,956 | 106,776
7 | 142,569 | 88,785 | 115,922
8 | 142,569 | 82,976 | 112,545
9 | 142,569 | 77,548 | 109,267
10 | 142,569 | 72,475 | 106,085
Total | 1,243,616 | 835,225 | 1,041,382
Annualized |  | 118,917 | 122,082

B. Small Entities

Under the Regulatory Flexibility Act, 5 U.S.C. 601-612, we have considered whether this proposed rule would have a significant economic impact on a substantial number of small entities. The term “small entities” comprises small businesses, not-for-profit organizations that are independently owned and operated and are not dominant in their fields, and governmental jurisdictions with populations of less than 50,000 people.

As described in section VI. A. of this preamble, Regulatory Planning and Review, there would be two affected populations: (1) Course providers who develop and submit a course to the Coast Guard for approval, and (2) applicants for mate (pilot) of towing vessels or master of towing vessels (limited) operating on inland waters or Western Rivers. Applicants are individuals and not entities; as such, the second affected population does not contain any small entities.

Of the 91 course providers approved to offer a basic firefighting course, the Coast Guard identified 35 course providers who might submit requests for course approval to teach a modified firefighting course.³⁹ Of these 35 providers:

³⁹ In the Affected Population section, we estimated that 23 providers would most likely be impacted by this rule based on their location and other factors. While we estimated that 23 providers would be most likely impacted, we identified 35 providers that might offer a modified basic firefighting course. For the purposes of the regulatory flexibility analysis, and because we did not know with certainty which of the 35 course providers would be impacted, we reviewed the potential costs to any of 35 entities to see if this rule would be likely to have a substantial impact on small entities. These 35 course providers are listed in in a document which is available in the docket where indicated under the ADDRESSES portion of the preamble (See Table A1: Basic Firefighting Course Providers, Course Cost, and Likelihood to Offer a Modified Basic Firefighting Course).

• 13 are public agencies, none of which are classified as small entities;

• 4 are non-profit organizations, and all 4 are classified as small entities;

• 18 are private companies. Of these, 4 are not classified as small businesses, 8 are classified as small businesses, and 6 could not be classified because information could not be found on those 6 businesses. We classify those 6 businesses, where information could not be found, as small entities.

In total, we classified 18 of 35 entities as small entities. Table 11 lists the North American Industry Classification System (NAICS) codes and size standards used to determine whether or not entities are small and the numbers of small entities.

Table 11—Size Standards and the Affected Entities
NAICS U.S. industry title | NAICS code | Size standard | Number of entities | Number of small entities
Small Government Jurisdiction | N/A | “governments of cities, counties, towns, townships, villages, school districts, or special districts with a population of less than 50,000.” | 13 | 0
Small Organization | N/A | “any not-for-profit enterprise that is independently owned and operated and not dominant in its field.” | 4 | 4
Crude Petroleum Extraction | 211120 | 1250 employees | 1 | 0
Inland Water Freight Transportation | 483211 | 750 employees | 1 | 1
Inland Water Passenger Transportation | 483212 | 500 employees | 1 | 0
Navigational Services to Shipping | 488330 | $41.5 million in revenue | 2 | 1
Human Resources Consulting Services | 541612 | $16.5 million in revenue | 1 | 1
Business and Secretarial Schools | 611410 | $8 million in revenue | 1 | 1
Other Technical and Trade Schools | 611519 | $16.5 million in revenue | 3 | 3
Sports and Recreation Instruction | 611620 | $8 million in revenue | 1 | 1
Ambulance Services | 621910 | $16.5 million in revenue | 1 | 0
Firms Where the Industry Could not be Identified | N/A | N/A | 6 | 6
Total |  |  | 35 | 18

As shown in the Costs section of this Regulatory Analysis, we estimate that it takes either 6 hours to prepare and submit a course approval request for a modified basic firefighting course or 12 hours if the course approval request requires additional information and resubmission. A training and development specialist's time is valued at a burdened rate of $45.40, for a total cost of either $272.40, or $544.80.⁴⁰ For this proposed rule to impose a significant impact on a small entity, the impact would have to be greater than 1 percent (.01) of a small entity's annual revenue. That is, in order for this proposed rule to have a significant economic impact on an entity, the entity's annual revenue would have to be less than $54,480.⁴¹ Out of the 8 small entities for which we had revenue information, none had annual revenue under $54,480. Table 12 indicates the distribution of revenue impacts for the small entities for which we were able to identify revenue information.⁴²

⁴⁰ See footnote 24 for a calculation of the burdened wage rate for training and development specialists. 6 hours × $47.66 per hour is $285.96, while 12 hours × $47.66 per hour is $571.92

⁴¹ $571.92 divided by .01 equals $57,192

⁴² We were not able to identify revenue information for the 4 nonprofit small entities and for 6 firms we identified as small.

Table 12—Distribution of Revenue Impacts
Percent of revenue impact | Average annual impact | Small entities with known revenue | Portion of small entities with known revenue
<1% | 544.80 | 8 | 100
1-3% | 544.80 | 0 | 0
>3% | 544.80 | 0 | 0

Therefore, based on this analysis, the Coast Guard certifies under 5 U.S.C. 605(b) that this rule would not have a significant economic impact on a substantial number of small entities. If you think that your business, organization, or governmental jurisdiction qualifies as a small entity and that this proposed rule would have a significant economic impact on it, please submit a comment to the docket at the address listed in the ADDRESSES section of this preamble. In your comment, explain why you think it qualifies and how and to what degree this proposed rule would economically affect it.

C. Assistance for Small Entities

Under section 213(a) of the Small Business Regulatory Enforcement Fairness Act of 1996, Public Law 104-121, we want to assist small entities in understanding this proposed rule so that they can better evaluate its effects on them and participate in the rulemaking. If the proposed rule would affect your small business, organization, or governmental jurisdiction and you have questions concerning its provisions or options for compliance, please contact the person in the FOR FURTHER INFORMATION CONTACT section of this proposed rule. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This proposed rule would call for a change to the existing information collection (OMB Control Number 1625-0028) under the Paperwork Reduction Act of 1995, 44 U.S.C. 3501-3520. As defined in 5 CFR 1320.3(c), “collection of information” comprises reporting, recordkeeping, monitoring, posting, labeling, and other similar actions. The title and description of the information collections, a description of those who must collect the information, and an estimate of the total annual burden follow. The estimate covers the time for reviewing instructions, searching existing sources of data, gathering and maintaining the data needed, and completing and reviewing the collection.

Title: Course Approval and Records for Merchant Marine Training Schools

OMB Control Number: 1625-0028.

Summary of the Modification to the Collection of Information: This proposed rule would allow course providers to offer a new course approved under 46 CFR 10.402 and 10.403 by permitting inland waters and Western Rivers towing vessel master and mate (pilot) applicants to take a modified course in lieu of a basic firefighting course.

Need for information: The Coast Guard will need to receive a course approval submission from each course provider in order to approve each course provider's new modified basic inland waters and Western Rivers towing vessel firefighting course.

Proposed Use of the Information: The collection of information is intended to ensure that course providers meet the regulatory requirements for the courses that they offer.

Description of the Respondents: The respondents are course providers wishing to offer a modified basic inland waters and Western Rivers towing vessel firefighting course.

Number of Respondents: The Coast Guard estimates that there will not be any additional respondents, because the course providers who would request approval of a modified basic inland waters and Western Rivers towing vessel firefighting course would already have other courses approved by the Coast Guard. As such, the Coast Guard expects there will be no additional respondents because the respondents are already included in the collection of information. Out of the 315 current annual respondents for OMB Control Number 1625-0028, 91 are currently approved to offer a basic firefighting course. Based on information provided by an SME from the Coast Guard's Office of Merchant Mariner Credentialing, we estimate that 23 of the 91 course providers offering a basic firefighting course would likely request approval of a modified basic inland waters and Western Rivers towing vessel firefighting course.

Frequency of Response: Half the course providers would request course approval and not need to provide additional information, and the other half would request course approval and need to provide additional information. The Coast Guard estimates these requests would happen in the first year. Therefore, we estimate that there would be 35 additional responses from this proposed rule (23 initial submissions, plus 12 submissions of additional information). The current collection of information estimates the annual number of responses at 3,757; adding 35 responses brings the total estimated number of responses to 3,792.

Burden of Response: Out of the 35 responses, the Coast Guard estimates that 23 would take 6 hours to request approval of a modified basic inland waters and Western Rivers towing vessel firefighting course because the course provider's submission complies with Coast Guard policies and regulations. Another 12 responses would take an additional 6 hours because the course package would need to be revised and resubmitted.

Estimate of Total Annual Burden: All 35 responses would take 6 hours to complete. As a consequence, the Coast Guard estimates that 35 × 6, or 210 hours, will be incurred by course providers in requesting new modified basic firefighting course approvals. The current collection of information annual hour burden is 145,917 hours. Adding 210 to this annual burden brings the total estimated hour burden to 146,127.

As required by 44 U.S.C. 3507(d), we will submit a copy of this proposed rule to OMB for its review of the collection of information. We ask for public comment on the proposed revised collection of information to help us determine, among other things—

• How useful the information is;

• Whether the information can help us perform our functions better;

• How we can improve the quality, usefulness, and clarity of the information;

• Whether the information is readily available elsewhere;

• How accurate our estimate is of the burden of collection;

• How valid our methods are for determining the burden of collection; and

• How we can minimize the burden of collection.

If you submit comments on the collection of information, submit them to both to OMB and to the docket where indicated under ADDRESSES.

You need not respond to a collection of information unless it displays a currently valid control number from OMB. Before the Coast Guard could enforce the collection of information requirements in this NPRM, OMB would need to approve the Coast Guard's request to collect this information.

E. Federalism

A rule has implications for federalism under Executive Order 13132 (Federalism) if it has a substantial direct effect on States, on the relationship between the National Government and the States, or on the distribution of power and responsibilities among the various levels of government. We have analyzed this proposed rule under Executive Order 13132 and have determined that it is consistent with the fundamental federalism principles and preemption requirements described in Executive Order 13132. Our analysis follows.

It is well settled that States may not regulate in categories reserved for regulation by the Coast Guard. It is also well settled that all of the categories covered in 46 U.S.C. 7101 (personnel qualifications of officers serving on board merchant vessels), and any other category in which Congress intended the Coast Guard to be the sole source of a vessel's obligations, are within the field foreclosed from regulation by the States. See, e.g., United States v. Locke, 529 U.S. 89 (2000) (finding that the states are foreclosed from regulating tanker vessels) see also Ray v. Atlantic Richfield Co., 435 U.S. 151, 157 (1978) (state regulation is preempted where “the scheme of federal regulation may be so pervasive as to make reasonable the inference that Congress left no room for the States to supplement it [or where] the Act of Congress may touch a field in which the federal interest is so dominant that the federal system will be assumed to preclude enforcement of state laws on the same subject.” (citations omitted)). Because this proposed rule involves the credentialing of merchant mariner officers under 46 U.S.C. 7101, it relates to personnel qualifications for vessels subject to a pervasive scheme of federal regulation, and is therefore foreclosed from regulation by the States. Because the States may not regulate within this category, this proposed rule is consistent with the principles of federalism and preemption requirements in Executive Order 13132.

While it is well settled that States may not regulate in categories in which Congress intended the Coast Guard to be the sole source of a vessel's obligations, the Coast Guard recognizes the key role that State and local governments may have in making regulatory determinations. Additionally, for rules with federalism implications and preemptive effect, Executive Order 13132 specifically directs agencies to consult with State and local governments during the rulemaking process. If you believe this proposed rule would have implications for federalism under Executive Order 13132, please call or email the person listed in the FOR FURTHER INFORMATION CONTACT section of this preamble.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100 million (adjusted for inflation) or more in any one year. Although this proposed rule would not result in such an expenditure, we do discuss the effects of this proposed rule elsewhere in this preamble.

G. Taking of Private Property

This proposed rule would not cause a taking of private property or otherwise have taking implications under Executive Order 12630 (Governmental Actions and Interference with Constitutionally Protected Property Rights).

H. Civil Justice Reform

This proposed rule meets applicable standards in sections 3(a) and 3(b)(2) of Executive Order 12988, (Civil Justice Reform), to minimize litigation, eliminate ambiguity, and reduce burden.

I. Protection of Children

We have analyzed this proposed rule under Executive Order 13045 (Protection of Children from Environmental Health Risks and Safety Risks). This proposed rule is not an economically significant rule and would not create an environmental risk to health or risk to safety that might disproportionately affect children.

J. Indian Tribal Governments

This proposed rule does not have tribal implications under Executive Order 13175 (Consultation and Coordination with Indian Tribal Governments), because it would not have a substantial direct effect on one or more Indian tribes, on the relationship between the Federal Government and Indian tribes, or on the distribution of power and responsibilities between the Federal Government and Indian tribes.

K. Energy Effects

We have analyzed this proposed rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

M. Environment

We have analyzed this proposed rule under Department of Homeland Security Management Directive 023-01, Rev. 1,⁴³ associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. A preliminary Record of Environmental Consideration supporting this determination is available in the docket. For instructions on locating the docket, see the ADDRESSES section of this preamble. This proposed rule would be categorically excluded under paragraphs L52 and L56 of Appendix A, Table 1 of DHS Instruction Manual 023-01-001-01, Rev.1. Paragraph L52 pertains to regulations concerning vessel operation safety standards and paragraph L56 pertains to regulations concerning the training, qualifying, and licensing of maritime personnel.

⁴³ https://www.dhs.gov/sites/default/files/publications/DHS_Instruction%20Manual%20023-01-001-01%20Rev%2001_508%20Admin%20Rev.pdf.

This proposed rule would revise the existing merchant mariner credentialing training requirements for national endorsements as master and mate (pilot) for towing vessels. The proposed changes would apply to mariners working on towing vessels inspected under 46 CFR subchapter M when operating on inland waters or Western Rivers routes. Under the proposed rule, these mariners would only be required to receive training that is relevant to the firefighting equipment that is available on their vessels. This proposed change would promote marine safety by focusing attention on the resources actually available to affected mariners. We seek any comments or information that may lead to the discovery of a significant environmental impact from this proposed rule.

List of Subjects in 46 CFR Part 11

Penalties, Reporting and recordkeeping requirements, Schools, Seamen.

For the reasons discussed in the preamble, the Coast Guard proposes to amend 46 CFR part 11 as follows:

1. The authority citation for part 11 is revised to read as follows:

Authority: 14 U.S.C. 102(3); 31 U.S.C. 9701; 46 U.S.C. 2101, 2103, and 2110; 46 U.S.C. chapter 71; 46 U.S.C. 7502, 7505, 7701, 8906, and 70105; Executive Order 10173; Department of Homeland Security Delegation No. 0170.1. Section 11.107 is also issued under the authority of 44 U.S.C. 3507.

2. Amend § 11.201 by:

a. Revising paragraphs (h)(1), (2)(i), and (3)(i) and (ii);

b. Adding paragraphs (h)(3)(iii) and (iv); and

c. Revising paragraph (l) .

The revisions and additions read as follows:

§ 11.201 General requirements for national and STCW officer endorsements.

* * * * *

(h) * * *

(1) Applicants for an original officer endorsement in the following categories must present a certificate of completion from a firefighting course of instruction relevant to the endorsement being sought that has been approved by the Coast Guard. The firefighting course must have been completed within the past 5 years, or if it was completed more than 5 years before the date of application, the applicant must provide evidence of maintaining the standard of competence in accordance with the firefighting requirements for the credential sought.

(2) * * *

(i) All national officer endorsements as master or mate on seagoing vessels of 200 GRT or more.

* * * * *

(3) * * *

(i) All officer endorsements as master on vessels of less than 500 GT in ocean service.

(ii) All officer endorsements for master or mate (pilot) of towing vessels for service on near-coastal waters, except apprentice mate (steersman) of towing vessels.

(iii) All officer endorsements for master or mate (pilot) of towing vessels for service on Great Lakes, except apprentice mate (steersman) of towing vessels.

(iv) All officer endorsements as master or mate (pilot) of towing vessels for service on inland waters or Western Rivers, except apprentice mate (steersman) of towing vessels.

(A) The Coast Guard will accept a Coast Guard approved modified basic firefighting course, which is the basic firefighting training described in paragraph (h)(3) of this section modified to only cover the equipment, fire prevention procedures, and firefighting operations required on towing vessels on inland waters or Western Rivers routes required in 46 CFR parts 140 and 142. A mariner who completes this modified basic firefighting course will be issued an endorsement that is restricted to inland waters or Western Rivers.

(B) To increase in scope to Great Lakes, near-coastal or oceans, the applicant will be required to complete the firefighting course appropriate to the route sought.

* * * * *

(l) Restrictions. The Coast Guard may modify the service, training, and examination requirements in this part to satisfy the unique qualification requirements of an applicant or distinct group of mariners. The Coast Guard may also lower the age requirement for OUPV applicants. The authority granted by an officer endorsement will be restricted to reflect any modifications made under the authority of this paragraph (l).

Dated: August 16, 2021.
J.W. Mauger,
Rear Admiral, U.S. Coast Guard, Assistant Commandant for Prevention Policy.

[FR Doc. 2021-17945 Filed 8-31-21; 8:45 am]

BILLING CODE 9110-04-P